DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Fall 2021 Semiannual Agenda of Regulations

AGENCY: Office of the Secretary, Commerce.

ACTION: Semiannual Regulatory Agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to pre-rulemaking, proposed rules, final rules, long-term actions, and rulemaking actions completed since the spring 2021 agenda. The purpose of the Agenda is to provide information to the public on regulations that are currently under review, being proposed, or recently issued by Commerce. It is expected that this information will enable the public to participate more effectively in the Department's regulatory process.

Commerce's fall 2021 regulatory agenda includes regulatory activities that are expected to be conducted during the period November 1, 2021, through October 31, 2022.

FOR FURTHER INFORMATION CONTACT:

Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its fall 2021 Unified Agenda of Federal Regulatory and Deregulatory Actions pursuant to Executive Order 12866 and the Regulatory Flexibility Act, 5 U.S.C. 601 et seq. Executive Order 12866 requires agencies to publish an agenda of those regulations that are under consideration. By memorandum of August 16, 2021, the Office of Management and Budget issued guidelines and procedures for the preparation and publication of the fall 2021 Unified Agenda. The Regulatory Flexibility Act requires agencies to publish, in the spring and fall of each year, a regulatory flexibility agenda that contains a brief description of the subject of any rule likely to have a significant economic impact on a substantial number of small entities.

The internet is the basic means for disseminating the Unified Agenda. The complete Unified Agenda is available online at www.reginfo.gov, in a format that offers users a greatly enhanced ability to obtain information from the Agenda database.

In this edition of Commerce's regulatory agenda, a list of the most important significant regulatory and deregulatory actions and a Statement of Regulatory Priorities are included in the Regulatory Plan, which appears in both the online Unified Agenda and in part II of the issue of the Federal Register that includes the Unified Agenda.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the internet. In addition, for fall editions of the Agenda, Commerce's entire Regulatory Plan will continue to be printed in the Federal Register.

Within Commerce, the Office of the Secretary and various operating units may issue regulations. Among these operating units, the National Oceanic and Atmospheric Administration (NOAA), the Bureau of Industry and Security, and the Patent and Trademark Office issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare and submit to NMFS Fishery Management Plans (FMPs) for the fisheries within their respective areas in the EEZ. Membership of these Councils is comprised of representatives of the commercial and recreational fishing sectors in addition to environmental, academic, and government interests. Council members are nominated by the governors and ultimately appointed by the Secretary of Commerce. The Councils are required by law to conduct public hearings on the development of FMPs and FMP amendments. Consistent with applicable law, environmental and other analyses are developed that consider alternatives to proposed actions.

Pursuant to the Magnuson-Stevens Act, the Councils also recommend actions to NMFS deemed necessary or appropriate to implement FMPs. The proposed regulations, FMPs, and FMP amendments are subject to review and approval by NMFS, based on consistency with the Magnuson-Stevens Act and other applicable law. The Council process for developing FMPs and amendments makes it difficult for NMFS to determine the significance and timing of some regulatory actions under consideration by the Councils at the time the semiannual regulatory agenda is published.

Commerce's fall 2021 regulatory agenda follows.

Leslie Kiernan,
General Counsel.

General Administration—Proposed Rule Stage
Sequence No. | Title | Regulation Identifier No.
212 | Securing the Information and Communications Technology and Services Supply Chain: Licensing Procedures | 0605-AA60

General Administration—Final Rule Stage
Sequence No. | Title | Regulation Identifier No.
213 | Concrete Masonry Products Research, Education, and Promotion | 0605-AA53

National Oceanic and Atmospheric Administration—Proposed Rule Stage
Sequence No. | Title | Regulation Identifier No.
214 | Comprehensive Fishery Management Plan for Puerto Rico, Comprehensive Fishery Management Plan for St. Croix, Comprehensive Fishery Management Plan for St. Thomas/St. John | 0648-BD32
215 | International Fisheries; Western and Central Pacific Fisheries for Highly Migratory Species; Treatment of U.S. Purse Seine Fishing With Respect to U.S. Territories | 0648-BF41
216 | International Fisheries; South Pacific Tuna Fisheries; Implementation of Amendments to the South Pacific Tuna Treaty | 0648-BG04
217 | Illegal, Unreported, and Unregulated Fishing; Fisheries Enforcement; High Seas Driftnet Fishing Moratorium Protection Act | 0648-BG11
218 | Regulatory Amendment to the Pacific Coast Groundfish Fishery Management Plan to Implement an Electronic Monitoring Program for Bottom Trawl and Non-Whiting Midwater Trawl Vessels | 0648-BH70
219 | Atlantic Highly Migratory Species; Research and Data Collection in Support of Spatial Fisheries Management | 0648-BI10
220 | Establish National Insurance Requirements for Observer Providers | 0648-BJ33
221 | Amendment 23 to the Northeast Multispecies Fishery Management Plan | 0648-BK17
222 | Amendment 21 to the Atlantic Sea Scallop Fishery Management Plan | 0648-BK68
223 | West Coast Vessel Monitoring Exemptions | 0648-BK73
224 | Conservation and Management Measures for Tropical Tunas in the Eastern Pacific Ocean for 2022 and Beyond | 0648-BK84
225 | Silky Shark Regulations in the Eastern Pacific Ocean in 2022 and Beyond | 0648-BK87
226 | Emergency Purse Seine Observer Waivers in the Eastern Pacific Ocean | 0648-BK88
227 | Amendments to the North Atlantic Right Whale Vessel Strike Reduction Rule | 0648-BI88
228 | Establishment of Time-Area Closures for Hawaiian Spinner Dolphins Under the Marine Mammal Protection Act | 0648-BK04

National Oceanic and Atmospheric Administration—Final Rule Stage
Sequence No. | Title | Regulation Identifier No.
229 | Generic Amendment to the Fishery Management Plans for the Reef Fish Resources of the Gulf of Mexico and Coastal Migratory Pelagic Resources in the Gulf of Mexico and Atlantic Region | 0648-BH72
230 | Magnuson-Stevens Fisheries Conservation and Management Act; Traceability Information Program for Seafood | 0648-BH87
231 | Atlantic Highly Migratory Species: Amendment 13 on Bluefin Tuna Management | 0648-BI08
232 | Designation of Critical Habitat for the Arctic Ringed Seal | 0648-BC56
233 | Amendment and Updates to the Pelagic Longline Take Reduction Plan | 0648-BF90
234 | Designation of Critical Habitat for the Threatened Caribbean Corals | 0648-BG26
235 | Atlantic Large Whale Take Reduction Plan Modifications to Reduce Serious Injury and Mortality of Large Whales in Commercial Trap/Pot Fisheries Along the U.S. East Coast | 0648-BJ09
236 | Designation of Critical Habitat for Threatened Indo-Pacific Reef-Building Corals | 0648-BJ52
237 | Designation of Critical Habitat for the Beringia Distinct Population Segment of the Bearded Seal | 0648-BJ65
238 | Monterey Bay National Marine Sanctuary Regulations and Management Plan | 0648-BI01

National Oceanic and Atmospheric Administration—Long-Term Actions
Sequence No. | Title | Regulation Identifier No.
239 | Implementation of a Program for Transshipments by Large Scale Fishing Vessels in the Eastern Pacific Ocean | 0648-BD59

National Oceanic and Atmospheric Administration—Completed Actions
Sequence No. | Title | Regulation Identifier No.
240 | International Fisheries; Western and Central Pacific Fisheries for Highly Migratory Species; Requirements to Safeguard Fishery Observers | 0648-BG66
241 | Omnibus Deep-Sea Coral Amendment | 0648-BH67
242 | Amendment 111 to the Fishery Management Plan for Groundfish of the Gulf of Alaska to Reauthorize the Central Gulf of Alaska Rockfish Program | 0648-BJ73
243 | 2021 Pacific Whiting Harvest Specifications Including Interim Tribal Allocation; Pacific Coast Groundfish | 0648-BK25
244 | Reducing Disturbances to Hawaiian Spinner Dolphins From Human Interactions | 0648-AU02
245 | Revision to Critical Habitat Designation for Endangered Southern Resident Killer Whales | 0648-BH95
246 | Wisconsin-Lake Michigan National Marine Sanctuary Designation | 0648-BG01

Patent and Trademark Office—Final Rule Stage
Sequence No. | Title | Regulation Identifier No.
247 | Changes To Implement Provisions of the Trademark Modernization Act of 2020 (Reg Plan Seq No. 15) | 0651-AD55
References in boldface appear in The Regulatory Plan in part II of this issue of the Federal Register.

DEPARTMENT OF COMMERCE (DOC)

General Administration (ADMIN)

Proposed Rule Stage

212. Securing the Information and Communications Technology and Services Supply Chain: Licensing Procedures

Legal Authority: Not Yet Determined

Abstract: The Department is seeking public input regarding establishing a licensing process for entities to seek pre-approval before engaging in or continuing to engage in potentially regulated ICTS Transactions under the “Securing the Information and Communications Technology and Services Supply Chain” rule.

Timetable:

Action | Date | FR Cite
ANPRM | 03/29/21 | 86 FR 16312
ANPRM Comment Period End | 04/28/21 |
NPRM | 11/00/21 |

Regulatory Flexibility Analysis Required: Yes.

Agency Contact: Joe Bartles, Department of Commerce, 1401 Constitution Avenue NW, Washington, DC 20230, Phone: 202 482-3084, Email: jbartles@doc.gov.

RIN: 0605-AA60

DEPARTMENT OF COMMERCE (DOC)

General Administration (ADMIN)

Final Rule Stage

213. Concrete Masonry Products Research, Education, and Promotion

Legal Authority: 15 U.S.C. 8701 et seq.

Abstract: The Concrete Masonry Products Research, Education, and Promotion Act of 2018 (Act) (15 U.S.C. 8701 et seq.) authorizes the establishment of an orderly program for a program of research, education, and promotion, including funds for marketing and market research activities, that is designed to promote the use of concrete masonry products in construction and building (a checkoff program). The Act allows industry to submit a proposed order establishing such a program. If the Secretary determines that such a proposed order is consistent with and will effectuate the purpose of the Act, the Secretary is directed to publish the proposed order in the Federal Register not later than 90 days after receiving the order.

Timetable:

Action | Date | FR Cite
NPRM | 08/24/20 | 85 FR 52059
NPRM Comment Period End | 10/08/20 |
Final Action | 09/15/21 | 86 FR 51456
Final Action Effective | 11/29/21 |

Regulatory Flexibility Analysis Required: Yes.

Agency Contact: Asha Mathew, Department of Commerce, 1401 Constitution Avenue NW, Washington, DC 20230, Phone: 202 306-0487, Email: amathew@doc.gov.

RIN: 0605-AA53

DEPARTMENT OF COMMERCE (DOC)

National Oceanic and Atmospheric Administration (NOAA)

Proposed Rule Stage

National Marine Fisheries Service

214. Comprehensive Fishery Management Plan for Puerto Rico, Comprehensive Fishery Management Plan for St. Croix, Comprehensive Fishery Management Plan for St. Thomas/St. John

Legal Authority: 16 U.S.C. 1801 et seq.

Abstract: In response to a recommendation of the Caribbean Fishery Management Council, this action would establish three new Fishery Management Plans (FMPs) (Puerto Rico FMP, St. Thomas/St. John FMP and St. Croix FMP) and repeal and replace the existing U.S. Caribbean-wide FMPs (the FMP for the Reef Fish Fishery of Puerto Rico and the U.S. Virgin Islands (USVI), the FMP for the Spiny Lobster Fishery of Puerto Rico and the USVI, the FMP for Queen Conch Resources of Puerto Rico and the USVI, and the FMP for the Corals and Reef Associated Plants and Invertebrates of Puerto Rico and the USVI). For each of the Puerto Rico, St. Thomas/St. John, and St. Croix FMPs, the action would also modify the composition of the stocks to be managed; organize those stocks for effective management; establish status determination criteria, management reference points, and accountability measures for managed stocks; identify essential fish habitat for stocks new to management; and establish framework measures.

Timetable:

Action | Date | FR Cite
Notice of Availability | 06/26/20 | 85 FR 38350
Comment Period End | 08/25/20 |
NPRM | 11/00/21 |

Regulatory Flexibility Analysis Required: Yes.

Agency Contact: Andrew J. Strelcheck, Acting Regional Administrator, Southeast Region, Department of Commerce, National Oceanic and Atmospheric Administration, 263 13th Avenue South, St. Petersburg, FL 33701, Phone: 727 824-5305, Email: andy.strelcheck@noaa.gov.

RIN: 0648-BD32

215. International Fisheries; Western and Central Pacific Fisheries for Highly Migratory Species; Treatment of U.S. Purse Seine Fishing With Respect to U.S. Territories

Legal Authority: 16 U.S.C. 6901 et seq.

Abstract: This action would establish rules and/or procedures to address the treatment of U.S.-flagged purse seine vessels and their fishing activities in regulations issued by the National Marine Fisheries Service that implement decisions of the Commission for the Conservation and Management of Highly Migratory Fish Stocks in the Western and Central Pacific Ocean (Commission), of which the United States is a member. Under the Western and Central Pacific Fisheries Convention Implementation Act, the National Marine Fisheries Service exercises broad discretion when determining how it implements Commission decisions, such as purse seine fishing restrictions. The National Marine Fisheries Service intends to examine the potential impacts of the domestic implementation of Commission decisions, such as purse seine fishing restrictions, on the economies of the U.S. territories that participate in the Commission, and examine the connectivity between the activities of U.S.-flagged purse seine fishing vessels and the economies of the territories. Based on that and other information, the National Marine Fisheries Service might propose regulations that mitigate adverse economic impacts of purse seine fishing restrictions on the U.S. territories and/or that, in the context of the Convention on the Conservation and Management of Highly Migratory Fish Stocks in the Western and Central Pacific Ocean (Convention), recognize that one or more of the U.S. territories have their own purse seine fisheries that are distinct from the purse seine fishery of the United States and that are consequently subject to special provisions of the Convention and of Commission decisions.

Timetable:

Action | Date | FR Cite
ANPRM | 10/23/15 | 80 FR 64382
ANPRM Comment Period End | 11/23/15 |
NPRM | 04/00/22 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BF41

216. International Fisheries; South Pacific Tuna Fisheries; Implementation of Amendments to the South Pacific Tuna Treaty

Legal Authority: 16 U.S.C. 973 et seq.

Abstract: Under authority of the South Pacific Tuna Act of 1988, this rule would implement recent amendments to the Treaty on Fisheries between the Governments of Certain Pacific Island States and the Government of the United States of America (also known as the South Pacific Tuna Treaty). The rule would include modification to the procedures used to request licenses for U.S. vessels in the western and central Pacific Ocean purse seine fishery, including changing the annual licensing period from June-to-June to the calendar year, and modifications to existing reporting requirements for purse seine vessels fishing in the western and central Pacific Ocean. The rule would implement only those aspects of the Treaty amendments that can be implemented under the existing South Pacific Tuna Act.

Timetable:

Action | Date | FR Cite
NPRM | 12/00/21 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG04

217. Illegal, Unreported, and Unregulated Fishing; Fisheries Enforcement; High Seas Driftnet Fishing Moratorium Protection Act

Legal Authority: Pub. L. 114-81

Abstract: This proposed rule would make conforming amendments to regulations implementing the various statutes amended by the Illegal, Unreported and Unregulated Fishing Enforcement Act of 2015 (Pub. L. 114-81). The Act amends several regional fishery management organization implementing statutes as well as the High Seas Driftnet Fishing Moratorium Protection Act. It also provides authority to implement two new international agreements under the Antigua Convention, which amends the Convention for the establishment of an Inter-American Tropical Tuna Commission, and the United Nations Food and Agriculture Organization Agreement on Port State Measures to Prevent, Deter, and Eliminate Illegal, Unreported and Unregulated Fishing (Port State Measures Agreement), which restricts the entry into U.S. ports by foreign fishing vessels that are known to be or are suspected of engaging in illegal, unreported, and unregulated fishing. This proposed rule would also implement the Port State Measures Agreement. To that end, this proposed rule would require the collection of certain information from foreign fishing vessels requesting permission to use U.S. ports. It also includes procedures to designate and publicize the ports to which foreign fishing vessels may seek entry and procedures for conducting inspections of these foreign vessels accessing U.S. ports. Further, the rule would establish procedures for notification of: The denial of port entry or port services for a foreign vessel, the withdrawal of the denial of port services if applicable, the taking of enforcement action with respect to a foreign vessel, or the results of any inspection of a foreign vessel to the flag nation of the vessel and other competent authorities as appropriate.

Timetable:

Action | Date | FR Cite
NPRM | 02/00/22

Regulatory Flexibility Analysis Required: Yes.

Agency Contact: Alexa Cole, Director, Office of International Affairs and Seafood Inspection, Department of Commerce, National Oceanic and Atmospheric Administration, 1315 East-West Highway, Silver Spring, MD 20910, Phone: 301 427-8286, Email: alexa.cole@noaa.gov.

RIN: 0648-BG11

218. Regulatory Amendment to the Pacific Coast Groundfish Fishery Management Plan To Implement an Electronic Monitoring Program for Bottom Trawl and Non-Whiting Midwater Trawl Vessels

Legal Authority: 16 U.S.C. 1801 et seq.

Abstract: The proposed action would implement a regulatory amendment to the Pacific Fishery Management Council's Pacific Coast Groundfish Fishery Management Plan to allow bottom trawl and midwater trawl vessels targeting non-whiting species the option to use electronic monitoring (video cameras and associated sensors) in place of observers to meet requirements for 100-percent observer coverage. By allowing vessels the option to use electronic monitoring to meet monitoring requirements, this action is intended to increase operational flexibility and reduce monitoring costs for the fleet.

Timetable:

Action | Date | FR Cite
NPRM | 11/00/21

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BH70

219. Atlantic Highly Migratory Species; Research and Data Collection in Support of Spatial Fisheries Management

Legal Authority: 16 U.S.C. 1801 et seq.

Abstract: This rulemaking would address conducting research in areas currently closed to fishing for Atlantic highly migratory species (HMS)—during various times or by certain gear—to collect fishery-dependent data. A number of time/area closures or gear-restricted areas have been implemented over the years through various rulemakings, limiting fishing for Atlantic highly migratory species in those areas for a variety of reasons including reducing bycatch. These time/area closures have been implemented in consultation with the HMS Advisory Panel to protect species consistent with the Magnuson-Stevens Fisheries Conservation and Management Act (e.g., to reduce bycatch in the pelagic longline fishery off the east coast of Florida), the Endangered Species Act (e.g., to protect sea turtles in the North Atlantic), and the Atlantic Tunas Convention Act (e.g., to protect spawning bluefin tuna in the Gulf of Mexico). Fishery-dependent data supports effective fisheries management, and areas that restrict fishing effort often have a commensurate decrease in fishery-dependent data collection. Programs to facilitate research and data collection, such as those that would be covered by this rulemaking, could assess the efficacy of closed areas, improve sustainable management of highly migratory species, and may provide benefits to commercial and recreational fishermen.

Timetable:

Action | Date | FR Cite
NPRM | 09/00/22

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BI10

220. Establish National Insurance Requirements for Observer Providers

Legal Authority: 16 U.S.C. 1855(d)

Abstract: NMFS is proposing to establish uniform, nationally applicable minimum insurance requirements for companies that provide observer or at-sea monitor services for federally managed fisheries subject to monitoring requirements. This action would supersede outdated or inappropriate regulatory insurance requirements thereby easing the regulatory and cost burden for observer/at-sea monitor providers. Additionally, this action would mitigate potential liability risks associated with observer and at-sea monitor deployments for vessel owners and shore side processors that are subject to monitoring requirements.

Timetable:

Action | Date | FR Cite
NPRM | 11/00/21

Regulatory Flexibility Analysis Required: Yes.

Agency Contact: Evan Howell, Director, Office of Science and Technology, National Marine Fisheries Service, Department of Commerce, National Oceanic and Atmospheric Administration, 1315 East-West Highway, Silver Spring, MD 20910, Phone: 301 427-8100, Email: evan.howell@noaa.gov.

RIN: 0648-BJ33

221. Amendment 23 to the Northeast Multispecies Fishery Management Plan

Legal Authority: 16 U.S.C. 1801 et seq.

Abstract: This action proposes measures recommended by the New England Fishery Management Council in Amendment 23 to the Northeast Multispecies Fishery Management Plan. The Council developed this action to implement measures to improve the reliability and accountability of catch reporting in the commercial groundfish fishery to ensure there is a precise and accurate representation of catch (landings and discards). The purpose of this action is to adjust the existing industry-funded monitoring program to improve accounting and accuracy of collected catch data. Specifically, this action would set a fixed target coverage rate as a percentage of fishing trips to replace the current annual method for calculating a coverage target. This action would exclude from the monitoring requirement all trips in geographic areas with low groundfish catch; allow for increased coverage when federal funding is available to reimburse industry's costs; set a baseline coverage target for which there is no reimbursement for industry's costs in the absence of federal funding; approve electronic monitoring technologies as an alternative to human at-sea monitors; require periodic evaluation of the monitoring program; allow for waivers from monitoring for good cause; and grant authority to the Northeast Regional Administrator to streamline industry's reporting requirements.

Timetable:

Action | Date | FR Cite
NPRM | 11/00/21

Regulatory Flexibility Analysis Required: Yes.

Agency Contact: Michael Pentony, Regional Administrator, Greater Atlantic Region, Department of Commerce, National Oceanic and Atmospheric Administration, 55 Great Republic Drive, Gloucester, MA 01930, Phone: 978 281-9283, Email: michael.pentony@noaa.gov.

RIN: 0648-BK17

222. • Amendment 21 to the Atlantic Sea Scallop Fishery Management Plan

Legal Authority: 16 U.S.C. 1801 et seq.

Abstract: The New England Fishery Management Council developed Amendment 21 to allow for more controlled access to the scallop resource by the limited access and limited access general category (LAGC) fleets and increase monitoring in ways that support a growing directed scallop fishery in Federal waters, including the Northern Gulf of Maine (NGOM). Additionally, Amendment 21 considers adjusting the LAGC individual fishing quota (IFQ) program to support overall economic performance while allowing for continued participation in the LAGC fishery at varying levels. This action would: (1) Change the Annual Catch Limit flow chart to account for biomass in NGOM as part of Overfishing Limit and the Acceptable Biological Catch to be consistent with other portions of scallop resource management; (2) Develop landings limits for all permit categories in NGOM and establish an 800,000-pound NGOM Set-Aside trigger for the NGOM directed fishery with a sharing agreement for access by all permit categories for allocation above the trigger. Pounds above the trigger would be split 5 percent for the NGOM fleet and 95 percent for limited access and LAGC IFQ fleets; (3) Expand the Scallop Industry Funded Observer program to monitor directed scallop fishing in the NGOM by using a portion of the NGOM allocation to off-set monitoring costs; (4) Allocate 25,000 pounds of the NGOM allocation to increase the overall Scallop Research Set-Aside (RSA) and support Scallop RSA compensation fishing; (5) Increase the LAGC IFQ possession limit to 800 pounds per trip only for access area trips; (6) Prorate the daily observer compensation rate in 12-hour increments for observed LAGC IFQ trips longer than one day; and (7) Allow for temporary transfers of IFQ from limited access vessels with IFQ to LAGC IFQ-only vessels.

Timetable:

Action | Date | FR Cite
NPRM | 10/05/21 | 86 FR 54903
NPRM Comment Period End | 11/04/21 |
Final Action | 12/00/21 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Email: michael.pentony@noaa.gov.

RIN: 0648-BK68

223. • West Coast Vessel Monitoring Exemptions

Legal Authority: 16 U.S.C. 1801 et seq.

Abstract: On June 11, 2020, NMFS published the final rule (85 FR 35594) Vessel Movement, Monitoring, and Declaration Management for the Pacific Coast Groundfish Fishery to revise monitoring provisions. This revision increased the position transmission rate for vessels participating in the limited entry groundfish fishery, (“limited entry A” endorsed permit), any vessels using non-groundfish trawl gear (ridgeback prawn, California halibut, and sea cucumber trawl) in the Exclusive Economic Zone (EEZ), and any vessels that use open access gear to take and retain or possess groundfish in the EEZ or land groundfish taken in the EEZ (salmon troll, prawn trap, Dungeness crab, halibut longline, California halibut line gear, and sheepshead trap). This action would address an omission in the June 11, 2020, rulemaking that inadvertently left out the exemption for the pink shrimp trawl fishery from the position transmission rate increase that was included in the Pacific Fishery Management Council's recommendation for action. In April 2016, the Council recommended that vessels in the pink shrimp trawl fishery be exempt from increasing position transmission rates from once every hour to once every 15 minutes. This fishery is not subject to Rockfish Conservation Area restrictions, therefore additional monitoring for participating vessels is not necessary. This rulemaking would add this exemption into the regulations as well as make other minor, non-substantive clarifications in the regulations that were implemented in the June 11, 2020, rule.

Timetable:

Action | Date | FR Cite
NPRM | 10/26/21 | 86 FR 59109
NPRM Comment Period End | 11/26/21 |
Final Action | 01/00/22 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BK73

224. • Conservation and Management Measures for Tropical Tunas in the Eastern Pacific Ocean for 2022 and Beyond

Legal Authority: 16 U.S.C. 951; 16 U.S.C. 952; 16 U.S.C. 953; 16 U.S.C. 954; . . .

Abstract: The Inter-American Tropical Tuna Commission (IATTC) is expected to adopt by consensus a Resolution for Conservation Measures for Tropical Tunas in the Eastern Pacific Ocean in October 2021. The Resolution is binding for IATTC member nations, and under the Tuna Conventions Act, 16 U.S.C. 951 et seq. NMFS must implement the Resolution domestically. This proposed rule would implement the provisions for tropical tuna for 2022 and beyond. In addition to rolling over measures from the 2021 Resolution, this Resolution may include an increase in purse seine closure days, changes to force majeure provisions, updates to fish aggregating device measures. The Resolution is intended to prevent overfishing of tropical tuna (bigeye, yellowfin, and skipjack) in the eastern Pacific Ocean. The following provisions that would be included in the proposed rule were also in the regulations implemented for 2021. The rule will continue to prohibit purse seine vessels of class sizes 4-6 (carrying capacity greater than 182 mt) from fishing for tropical tuna in the EPO for a period of at least 72 days. The rule would continue to require a closure of the fishery for yellowfin, bigeye, and skipjack tunas by purse-seine vessels within the area of 96W and 110W and between 4° N and 3° S from 0000 hours on 9 October to 2400 hours on 8 November. The rule would carry over all provisions included in the Measures of the Longline Fishery and Other Provisions section of the Resolution. As of August 23, 2021, 17 U.S. purse seine vessels of class size 4-6 are registered to fish in the IATTC Convention Area that would be impacted by these measures. Owners and operators of these vessels are familiar with these measures. In addition to sending professional representatives and lobbyists, many personally attended the June and August IATTC Meetings and were closely involved in briefings and discussions with State Department and NMFS leadership and staff. The action is necessary for the United States to satisfy its international obligations as a Member of the IATTC. This rule is not expected to trigger either opposition from any sector of the public or congressional interest. NMFS has considered this action under E.O. 12866. Based on that review, this action is not expected to have an annual effect on the economy of $100 million or more, or have an adverse effect in a material way on the economy. Furthermore, this action would not create a serious inconsistency or otherwise interfere with an action taken or planned by another agency; or materially alter the budgetary impact of entitlements, grants, user fees, or loan programs or the rights and obligations of recipients thereof; or raise novel or policy issues arising out of legal mandates, the President's priorities, or the principles set forth in this E.O.

Timetable:

Action | Date | FR Cite
NPRM | 11/00/21 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BK84

225. • Silky Shark Regulations in the Eastern Pacific Ocean in 2022 and Beyond

Legal Authority: 16 U.S.C. 951 et seq.

Abstract: The National Marine Fisheries Service (NMFS) intends to maintain existing regulations on silky shark for 2022 and beyond, implemented under the Inter-American Tropical Tuna Commission (IATTC) Resolution on silky shark, under the authority of the Tuna Conventions Act. The IATTC Resolution on silky shark is expected to be adopted at the October 2021 session of the 98th Meeting of the IATTC. This proposed rule would maintain existing domestic implementing regulations pertaining to the prohibition on retention, transshipment, storing, and landing any part or whole carcass of silky shark on U.S. purse seine and longline vessels, as well as the specified exceptions to this prohibition for purse seine vessels. These existing regulations in the proposed rule would apply to United States purse seine and longline vessels authorized to fish in the eastern Pacific Ocean, and would not impose additional burden. These regulations on silky shark have not been and are not expected to be opposed by domestic commercial fishing interests. The action is necessary for the United States to satisfy its international obligations as a Member of the IATTC. This rule is not expected to trigger either opposition from any sector of the public or congressional interest. NMFS has considered this action under E.O. 12866. Based on that review, this action is not expected to have an annual effect on the economy of $100 million or more, or have an adverse effect in a material way on the economy. Furthermore, this action would not create a serious inconsistency or otherwise interfere with an action taken or planned by another agency; or materially alter the budgetary impact of entitlements, grants, user fees, or loan programs or the rights and obligations of recipients thereof; or raise novel or policy issues arising out of legal mandates, the President's priorities, or the principles set forth in this E.O.

Timetable:

Action | Date | FR Cite
NPRM | 11/00/21

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BK87

226. • Emergency Purse Seine Observer Waivers in the Eastern Pacific Ocean

Legal Authority: 16 U.S.C. 951; 16 U.S.C. 952; 16 U.S.C. 953; 16 U.S.C. 954; 16 U.S.C. 955; 16 U.S.C. 956; 16 U.S.C. 957; 16 U.S.C. 958; 16 U.S.C. 959; 16 U.S.C. 960; 16 U.S.C. 961; 16 U.S.C. 962

Abstract: On March 27, 2020, NMFS published a temporary rule for an emergency action in response to the COVID-19 Pandemic (85 FR 17285), that provides the authority to waive observer coverage requirements implemented under certain statutes, including the Marine Mammal Protection Act and Tuna Conventions Act. That temporary rule was extended and is currently in effect until March 26, 2022 (86 FR 16307), or until the Secretary of Health and Human Services determines that the COVID-19 Pandemic is no longer a public health emergency, whichever is earlier. Pursuant to the emergency rule, and in accordance with exemption procedures adopted by the Inter-American Tropical Tuna Commission (IATTC), NMFS WCR established procedures, subject to revocation or extension as circumstances warrant, for issuing temporary exemptions on an individual basis to the observer requirements under 50 CFR 216.24(e) and 50 CFR 300.25(e)(4)(iv). With travel restrictions continuing to be enforced at American Samoa and other port states where observers embark on United States flagged purse seine vessels, placement of observers is not always possible. If the temporary rule expires in March 2022, and is not renewed, NMFS will no longer possess the emergency authority to issue observer waivers in these cases. With the potential for travel restrictions that prevent the placement of observers continuing beyond March 2022, NMFS is proposing to implement an emergency waiver provision to allow NMFS to issue temporary written waivers from the observer requirements, on a case-by-case basis, in accordance with IATTC exemption procedures. NMFS is undertaking this action under the authority of the Tuna Conventions Act and the Marine Mammal Protection Act to satisfy the obligations of the United States as a Member of the IATTC. This rule is not expected to trigger either opposition from any sector of the public or congressional interest. NMFS has considered this action under E.O. 12866. Based on that review, this action is not expected to have an annual effect on the economy of $100 million or more, or have an adverse effect in a material way on the economy. Furthermore, this action would not create a serious inconsistency or otherwise interfere with an action taken or planned by another agency; or materially alter the budgetary impact of entitlements, grants, user fees, or loan programs or the rights and obligations of recipients thereof; or raise novel or policy issues arising out of legal mandates, the President's priorities, or the principles set forth in this E.O.

Timetable:

Action | Date | FR Cite
NPRM | 11/00/21

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BK88

227. Amendments to the North Atlantic Right Whale Vessel Strike Reduction Rule

Legal Authority: 16 U.S.C. 1361 et seq.; 16 U.S.C. 1531 et seq.

Abstract: NMFS has completed a review of the North Atlantic right whale vessel speed rule (per 50 CFR 224.105; 78 FR 73726, December 9, 2013). Through this action, NMFS invites comment on the report as well as information that may inform potential revisions to existing management strategies and regulations to further reduce the risk of vessel strikes of North Atlantic right whales.

Timetable:

Action | Date | FR Cite
NPRM | 05/00/22

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BI88

228. Establishment of Time-Area Closures for Hawaiian Spinner Dolphins Under the Marine Mammal Protection Act

Legal Authority: 16 U.S.C. 1382 et seq.

Abstract: This rulemaking action under the Marine Mammal Protection Act (MMPA) proposes to establish mandatory time-area closures of Hawaiian spinner dolphins' essential daytime habitats at five selected sites in the Main Hawaiian Islands (MHI). In considering public comments in response to a separate proposed rule related to spinner dolphin interactions (81 FR 57854), NMFS intends these regulatory measures to prevent take of Hawaiian spinner dolphins from occurring in inshore marine areas at essential daytime habitats, and where high levels of disturbance from human activities are most prevalent.

Timetable:

Action | Date | FR Cite
NPRM | 09/28/21 | 86 FR 53844
NPRM Comment Period End | 12/27/21
Final Action | 02/00/22

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BK04

DEPARTMENT OF COMMERCE (DOC)

National Oceanic and Atmospheric Administration (NOAA)

Final Rule Stage

National Marine Fisheries Service

229. Generic Amendment to the Fishery Management Plans for the Reef Fish Resources of the Gulf of Mexico and Coastal Migratory Pelagic Resources in the Gulf of Mexico and Atlantic Region

Legal Authority: 16 U.S.C. 1801 et seq.

Abstract: This action, recommended by the Gulf of Mexico Fishery Management Council, would modify data reporting for owners or operators of federally permitted for-hire vessels (charter vessels and headboats) in the Gulf of Mexico, requiring them to declare the type of trip (for-hire or other) prior to departing for any trip, and electronically submit trip-level reports prior to off-loading fish at the end of each fishing trip. The declaration would include the expected return time and landing location. Landing reports would include information about catch and effort during the trip. The action would also require that these reports be submitted via approved hardware that includes a global positioning system attached to the vessel that is capable, at a minimum, of archiving global positioning system locations. This requirement would not preclude the use of global positioning system devices that provide real-time location data, such as the currently approved vessel monitoring systems.

Timetable:

Action | Date | FR Cite
Notice of Availability | 06/21/18 | 83 FR 28797
NPRM | 10/26/18 | 83 FR 54069
Correction | 11/08/18 | 83 FR 55850
Comment Period Extended | 11/20/18 | 83 FR 58522
NPRM Comment Period End | 11/26/18
Comment Period Extended End | 01/09/19
Final Rule | 07/21/20 | 85 FR 44005
Final Rule Effective | 01/05/21
Final Action; Announcement of Effectiveness for Delayed Provisions | 09/14/21 | 86 FR 51014
Delay of Effective Date | 11/02/21 | 86 FR 60374
Delay of Effective Date Effective | 12/13/21
Final Action Effective | 12/13/21

Regulatory Flexibility Analysis Required: Yes.

Agency Contact: Andrew J. Strelcheck, Acting Regional Administrator, Southeast Region, Department of Commerce, National Oceanic and Atmospheric Administration, 263 13th Avenue South, St. Petersburg, FL 33701, Phone: 727 824-5305, Email: andy.strelcheck@noaa.gov.

RIN: 0648-BH72

230. Magnuson-Stevens Fisheries Conservation and Management Act; Traceability Information Program for Seafood

Legal Authority: 16 U.S.C. 1801 et seq.; Pub. L. 115-141

Abstract: On December 9, 2016, NMFS issued a final rule that established a risk-based traceability program to track seafood from harvest to entry into U.S. commerce. The final rule included, for designated priority fish species, import permitting and reporting requirements to provide for traceability of seafood products offered for entry into the U.S. supply chain, and to ensure that these products were lawfully acquired and are properly represented. Shrimp and abalone products were included in the final rule to implement the Seafood Import Monitoring Program, but compliance with Seafood Import Monitoring Program requirements for those species was stayed indefinitely due to the disparity between Federal reporting programs for domestic aquaculture of shrimp and abalone products relative to the requirements that would apply to imports under Seafood Import Monitoring Program. In section 539 of the Consolidated Appropriations Act, 2018, Congress mandated lifting the stay on inclusion of shrimp and abalone in Seafood Import Monitoring Program and authorized the Secretary of Commerce to require comparable reporting and recordkeeping requirements for domestic aquaculture of shrimp and abalone. This rulemaking would establish permitting, reporting and recordkeeping requirements for domestic producers of shrimp and abalone from the point of production to entry into commerce.

Timetable:

Action | Date | FR Cite
NPRM | 10/11/18 | 83 FR 51426
NPRM Comment Period End | 11/26/18
Final Action | 11/00/21

Regulatory Flexibility Analysis Required: Yes.

Agency Contact: Alexa Cole, Director, Office of International Affairs and Seafood Inspection, Department of Commerce, National Oceanic and Atmospheric Administration, 1315 East-West Highway, Silver Spring, MD 20910, Phone: 301 427-8286, Email: alexa.cole@noaa.gov.

RIN: 0648-BH87

231. Atlantic Highly Migratory Species: Amendment 13 on Bluefin Tuna Management

Legal Authority: 16 U.S.C. 1801 et seq.

Abstract: NOAA/NMFS proposes to revise the management measures for Atlantic bluefin tuna fisheries. Potential management measures could include modifications to pelagic longline and purse seine fisheries as well as other bluefin tuna fisheries, which would increase flexibility for fishery participants.

Timetable:

Action | Date | FR Cite
NPRM | 05/21/21 | 86 FR 27686
NPRM Comment Period End | 07/20/21
NPRM Comment Period Extended | 07/20/21 | 86 FR 38262
NPRM Comment Period Extended End | 09/09/21
Final Action | 06/00/22

Regulatory Flexibility Analysis Required: Yes.

Agency Contact: Kelly Denit, Director, Office of Sustainable Fisheries, Department of Commerce, National Oceanic and Atmospheric Administration, 1315 East-West Highway, Room 13362, Silver Spring, MD 20901, Phone: 301 427-8500, Email: kelly.denit@noaa.gov.

RIN: 0648-BI08

232. Designation of Critical Habitat for the Arctic Ringed Seal

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The critical habitat designation would be in the northern Bering, Chukchi, and Beaufort seas within the current range of the species.

Timetable:

Action | Date | FR Cite
NPRM | 12/03/14 | 79 FR 71714
Proposed Rule | 12/09/14 | 79 FR 73010
Notice of Public Hearings | 01/13/15 | 80 FR 1618
Comment Period Extended | 02/02/15 | 80 FR 5498
Proposed Rule 2 | 01/08/21 | 86 FR 1452
Proposed Rule 2 Comment Period End | 03/09/21
Public Hearing | 02/01/21 | 86 FR 7686
Public Hearing Comment Period End | 03/09/21
Comment Period Extended 2 | 03/09/21 | 86 FR 13517
Comment Period Extended 2 End | 04/08/21
Final Action | 03/00/22

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BC56

233. Amendment and Updates to the Pelagic Longline Take Reduction Plan

Legal Authority: 16 U.S.C. 1361 et seq.

Abstract: Serious injury and mortality of the Western North Atlantic short-finned pilot whale stock incidental to the Category I Atlantic pelagic longline fishery continues at levels exceeding their Potential Biological Removal. This proposed action would examine a number of management measures to amend the Pelagic Longline Take Reduction Plan to reduce the incidental mortality and serious injury of short-finned pilot whales taken in the Atlantic Pelagic Longline fishery to below Potential Biological Removal. Potential management measures may include changes to the current limitations on mainline length, new requirements to use weak hooks (hooks with reduced breaking strength), and non-regulatory measures related to determining the best procedures for safe handling and release of marine mammals. The need for the proposed action is to ensure the Pelagic Longline Take Reduction Plan meets its Marine Mammal Protection Act mandated short- and long-term goals.

Timetable:

Action | Date | FR Cite
NPRM | 12/15/20 | 85 FR 81168
NPRM Comment Period End | 02/16/21
Final Action | 12/00/21

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BF90

234. Designation of Critical Habitat for the Threatened Caribbean Corals

Legal Authority: 16 U.S.C. 1531 et seq.

Abstract: NMFS listed 5 Caribbean corals as threatened under the Endangered Species Act on October 10, 2014. Critical habitat shall be designated to the maximum extent prudent and determinable at the time a species is proposed for listing (50 CFR 424.12). We concluded that critical habitat was not determinable for the 5 corals at the time of listing. However, we anticipated that critical habitat would be determinable in the future given on-going research. We, therefore, announced in the final listing rules that we would propose critical habitat in separate rulemakings. This rule proposes to designate critical habitat for the 5 Caribbean coral species listed in 2014. A separate proposed critical habitat rule is being prepared for the 15 Indo-Pacific corals listed as threatened in 2014. The proposed designation for the Caribbean corals may include marine waters in Florida, Puerto Rico, U.S. Virgin Islands, Navassa Island, and Flower Garden Banks containing essential features that support all stages of life history of the corals. The proposed rule is not likely to have an annual effect on the economy of $100 million or more or adversely affect the economy. NMFS has contacted the Departments of the Navy, Air Force, and Army as well as the U.S. Coast Guard requesting information related to potential national security impacts that may result from the critical habitat designation. Based on information provided, we concluded that there will be an impact on national security in only 1 area offshore Dania Beach, FL, and will propose to exclude it from the designations.

Timetable:

Action | Date | FR Cite
NPRM | 11/27/20 | 85 FR 76302
NPRM Comment Period End | 01/26/21
Final Rule | 06/00/22

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BG26

235. Atlantic Large Whale Take Reduction Plan Modifications To Reduce Serious Injury and Mortality of Large Whales in Commercial Trap/Pot Fisheries Along the U.S. East Coast

Legal Authority: 16 U.S.C. 1387 et seq.

Abstract: In response to recent recommendations from the Atlantic Large Whale Take Reduction Team (TRT) to reduce the risk of North Atlantic right whale entanglement in commercial trap/pot fisheries along the U.S. East Coast, the National Marine Fisheries Service (NMFS) intends to propose regulations to amend the Atlantic Large Whale Take Reduction Plan (Plan).

Timetable:

Action | Date | FR Cite
NPRM | 12/31/20 | 85 FR 86878
NPRM Comment Period End | 03/01/21
Final Action | 09/17/21 | 86 FR 51970
Final Action Effective | 10/18/21
Correction | 12/00/21

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BJ09

236. Designation of Critical Habitat for Threatened Indo-Pacific Reef-Building Corals

Legal Authority: 16 U.S.C. 1531 et seq.

Abstract: On September 10, 2014, NMFS listed 20 species of reef-building corals as threatened under the Endangered Species Act, 15 in the Indo-Pacific and five in the Caribbean. Of the 15 Indo-Pacific species, seven occur in U.S. waters of the Pacific Islands Region, including in American Samoa, Guam, the Commonwealth of the Mariana Islands, and the Pacific Remote Island Areas. This proposed rule would designate critical habitat for the seven species in U.S. waters (Acropora globiceps, Acropora jacquelineae, Acropora retusa, Acropora speciosa, Euphyllia paradivisa, Isopora crateriformis, and Seriatopora aculeata). A separate proposed rule will designate critical habitat for the listed Caribbean coral species. The proposed designation may cover coral reef habitat around 13 island or atoll units in the Pacific Islands Region, including three in American Samoa, one in Guam, seven in the Commonwealth of the Mariana Islands, and two in Pacific Remote Island Areas, containing essential features that support reproduction, growth, and survival of the listed coral species. NMFS has contacted the Departments of the Navy, Air Force, and Army as well as the U.S. Coast Guard requesting information related to potential national security impacts that may result from the critical habitat designation. Based on information provided, we will determine whether to propose to exclude any areas based on national security impacts.

Timetable:

Action | Date | FR Cite
NPRM | 11/27/20 | 85 FR 76262
NPRM Comment Period End | 01/26/21
NPRM Comment Period Extended | 12/23/20 | 85 FR 83899
NPRM Comment Period Extended End | 02/25/21
Second NPRM Comment Period Extended | 02/09/21 | 86 FR 8749
Second Extended Comment Period End | 03/27/21
Third NPRM Comment Period Extended | 03/29/21 | 86 FR 16325
Third NPRM Comment Period Extended End | 05/26/21
Final Rule | 06/00/22

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BJ52

237. Designation of Critical Habitat for the Beringia Distinct Population Segment of the Bearded Seal

Legal Authority: 16 U.S.C. 1531 et seq.

Abstract: NMFS published a final rule to list the Beringia Distinct Population Segment (DPS) of bearded seals as a threatened species under the Endangered Species Act (ESA) in December 2012, thereby triggering the requirement under section 4 of the ESA to designate critical habitat for the Beringia DPS to the maximum extent prudent and determinable. NMFS has already initiated rulemaking to establish critical habitat for Arctic ringed seals, which were also listed as threatened under the ESA in December 2012, and that action is proceeding separately. This rulemaking action proposes to designate critical habitat in areas occupied by bearded seals in U.S. waters over the continental shelf in the northern Bering, Chukchi, and Beaufort Seas. Impacts from the designation of critical habitat for Beringia DPS bearded seals would stem from the statutory requirement that Federal agencies consult with NMFS under section 7 of the ESA to ensure that any action they carry out, authorize, or fund is not likely to result in the destruction or adverse modification of bearded seal critical habitat. Federal agencies are already required to consult with NMFS under section 7 of the ESA to ensure that any action they authorize, fund, or carry out is not likely to jeopardize the continued existence of the Beringia DPS of bearded seals.

Timetable:

Action | Date | FR Cite
NPRM | 01/08/21 | 86 FR 1433
NPRM Comment Period End | 03/09/21
Public Hearing | 02/01/21 | 86 FR 7686
Public Hearing Comment Period End | 03/09/21
Comment Period Extended | 03/09/21 | 86 FR 13518
Comment Period Extended End | 04/08/21
Final Action | 03/00/22

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BJ65

NOS/ONMS

238. Monterey Bay National Marine Sanctuary Regulations and Management Plan

Legal Authority: 16 U.S.C. 1431 et seq.

Abstract: The National Oceanic and Atmospheric Administration (NOAA) is proposing a draft revised management plan and revised regulations for the Monterey Bay National Marine Sanctuary (MBNMS or Sanctuary). The proposed regulations would revise and provide greater clarity to existing regulations, and make minor technical corrections.

Timetable:

Action | Date | FR Cite
NPRM | 07/06/20 | 85 FR 40143
NPRM Comment Period End | 09/04/20
Final Action | 11/00/21

Regulatory Flexibility Analysis Required: Yes.

Agency Contact: Jessica Kondel, Policy and Planning Division Chief, Department of Commerce, National Oceanic and Atmospheric Administration, 1305 East-West Highway, Building SSMC4, Silver Spring, MD 20910, Phone: 240 533-0647.

RIN: 0648-BI01

DEPARTMENT OF COMMERCE (DOC)

National Oceanic and Atmospheric Administration (NOAA)

Long-Term Actions

National Marine Fisheries Service

239. Implementation of a Program for Transshipments by Large Scale Fishing Vessels in the Eastern Pacific Ocean

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. This rule is necessary for the United States to satisfy its international obligations under the 1949 Convention for the Establishment of an Inter-American Tropical Tuna, to which it is a Contracting Party.

Timetable:

Action | Date | FR Cite
Final Action | To Be Determined

Regulatory Flexibility Analysis Required: Yes.

Agency Contact: Barry Thom, Phone: 503 231-6266, Email: barry.thom@noaa.gov.

RIN: 0648-BD59

DEPARTMENT OF COMMERCE (DOC)

National Oceanic and Atmospheric Administration (NOAA)

Completed Actions

240. International Fisheries; Western and Central Pacific Fisheries for Highly Migratory Species; Requirements To Safeguard Fishery Observers

Legal Authority: 16 U.S.C. 6901 et seq.

Abstract: This rule would establish requirements to enhance the safety of fishery observers on highly migratory species fishing vessels. This rule would be issued under the authority of the Western and Central Pacific Fisheries Convention Implementation Act, and pursuant to decisions made by the Commission for the Conservation and Management of Highly Migratory Fish Stocks in the Western and Central Pacific Ocean. This action is necessary for the United States to satisfy its obligations under the Convention on the Conservation and Management of Highly Migratory Fish Stocks in the Western and Central Pacific Ocean, to which it is a Contracting Party.

Timetable:

Action | Date | FR Cite
NPRM | 10/20/20 | 85 FR 66513
NPRM Comment Period End | 11/19/20
Final Action | 07/07/21 | 86 FR 35653
Final Action Effective | 08/06/21

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG66

241. Omnibus Deep-Sea Coral Amendment

Legal Authority: 16 U.S.C. 1801 et seq.

Abstract: This action would implement the New England Fishery Management Council's Omnibus Deep-Sea Coral Amendment. The Amendment would implement measures that reduce impacts of fishing gear on deep-sea corals in the Gulf of Maine and on the outer continental shelf. In doing so, this action would prohibit the use of mobile bottom-tending gear in two areas in the Gulf of Maine (Mount Desert Rock and Outer Schoodic Ridge), and it would prohibit the use of all gear (with an exception for red crab pots) along the outer continental shelf in waters deeper than a minimum of 600 meters.

Timetable:

Action | Date | FR Cite
Notice of Availability | 08/26/19 | 84 FR 44596
NPRM | 01/03/20 | 85 FR 285
NPRM Comment Period End | 02/18/20
Final Action | 06/25/21 | 86 FR 33553
Final Action Effective | 07/26/21

Regulatory Flexibility Analysis Required: Yes.

Agency Contact: Michael Pentony, Regional Administrator, Greater Atlantic Region, Department of Commerce, National Oceanic and Atmospheric Administration, 55 Great Republic Drive, Gloucester, MA 01930, Phone: 978 281-9283, Email: michael.pentony@noaa.gov.

RIN: 0648-BH67

242. Amendment 111 to the Fishery Management Plan for Groundfish of the Gulf of Alaska To Reauthorize the Central Gulf of Alaska Rockfish Program

Legal Authority: 16 U.S.C. 1801 et seq.

Abstract: In response to a recommendation by the North Pacific Fishery Management Council, this action implements Amendment 111 to the Fishery Management Plan for the Gulf of Alaska. This action would reauthorize the Central Gulf of Alaska (CGOA) Rockfish Program (RP) fisheries and modify specific implementing regulations to improve program effectiveness and efficiency. This action includes the following revisions to the RP: Remove the RP sunset date; authorize NMFS to reallocate unharvested RP Pacific cod and unused rockfish incidental catch allowances; remove specific harvesting limits created under the Crab Rationalization Program prior to the implementation of the RP; and remove or modify equipment and reporting requirements to improve operational efficiency, clarify regulations and remove unnecessary requirements. This action allows for the continued existence of the successful CGOA RP and maintains the benefits realized under the program. This action also builds upon the existing benefits of the RP by implementing minor regulatory changes that improve clarity, consistency and removes unnecessary regulatory requirements.

Timetable:

Action | Date | FR Cite
Notice of Availability | 07/28/20 | 85 FR 45367
NPRM | 09/04/20 | 85 FR 55243
NPRM Comment Period End | 10/05/20
Final Action | 03/01/21 | 86 FR 11895
Final Action Effective | 03/31/21

Regulatory Flexibility Analysis Required: Yes.

Agency Contact: James Balsiger, Regional Administrator, Alaska Region, Department of Commerce, National Oceanic and Atmospheric Administration, 709 West Ninth Street, Juneau, AK 99801, Phone: 907 586-7221, Email: jim.balsiger@noaa.gov.

RIN: 0648-BJ73

243. 2021 Pacific Whiting Harvest Specifications Including Interim Tribal Allocation; Pacific Coast Groundfish

Legal Authority: 16 U.S.C. 1801 et seq.

Abstract: This rule would establish the 2021 adjusted U.S. Total Allowable Catch (TAC) level, interim tribal and non-tribal allocations, allocations for three commercial whiting sectors, and research and bycatch set-asides. Through this rulemaking, NMFS sets the U.S. TAC based on the coastwide TAC determined under the terms of the Agreement with Canada on Pacific Hake/Whiting (Agreement) and the Pacific Whiting Act of 2006 (Whiting Act), the interim allocation for the tribal fishery, the fishery harvest guideline, called the non-tribal allocation, and set asides for research and bycatch. As in prior years, the tribal allocation is an interim allocation that is not intended to set precedent for future years. The harvest specifications that would be implemented by this action would be in effect in time for the Pacific Whiting fishery that opens May 15, 2021 through December 31, 2021.

Timetable:

Action | Date | FR Cite
NPRM | 02/16/21 | 86 FR 9473
NPRM Comment Period End | 03/18/21
Revised Proposed Rule | 05/04/21 | 86 FR 23659
Revised Proposed Rule Comment Period End | 05/19/21
Final Action | 06/23/21 | 86 FR 32804
Final Action Effective | 06/23/21

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BK25

244. Reducing Disturbances to Hawaiian Spinner Dolphins From Human Interactions

Legal Authority: 16 U.S.C. 1361 et seq.

Abstract: This action implements regulatory measures under the Marine Mammal Protection Act to protect Hawaiian spinner dolphins that are resting in protected bays from take due to close approach interactions with humans.

Timetable:

Action | Date | FR Cite
ANPRM | 12/12/05 | 70 FR 73426
ANPRM Comment Period End | 01/11/06
NPRM | 08/24/16 | 81 FR 57854
NPRM Comment Period End | 10/23/16
NPRM Comment Period Reopened | 11/16/16 | 81 FR 80629
NPRM Comment Period Reopened End | 12/01/16
Final Action | 09/28/21 | 86 FR 53818
Final Action Effective | 10/28/21

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-AU02

245. Revision to Critical Habitat Designation for Endangered Southern Resident Killer Whales

Legal Authority: 16 U.S.C. 1531 et seq.

Abstract: The proposed action would revise the designation of critical habitat for the endangered Southern Resident killer whale distinct population segment, pursuant to section 4 of the Endangered Species Act. Critical habitat for this population is currently designated within inland waters of Washington. In response to a 2014 petition, NMFS is proposing to expand the designation to include areas occupied by Southern Resident killer whales in waters along the U.S. West Coast. Impacts from the designation would stem mainly from Federal agencies' requirement to consult with NMFS, under section 7 of the Endangered Species Act, to ensure that any action they carry out, permit (authorize), or fund will not result in the destruction or adverse modification of critical habitat of a listed species. Federal agencies are already required to consult on effects to the currently designated critical habitat in inland waters of Washington, but consultation would be newly required for actions affecting the expanded critical habitat areas. Federal agencies are also already required to consult within the Southern Resident killer whales' range (including along the U.S. West Coast) to ensure that any action they carry out, permit, or fund will not jeopardize the continued existence of the species; this requirement would not change with a revision to the critical habitat designation.

Timetable:

Action | Date | FR Cite
NPRM | 09/19/19 | 84 FR 49214
NPRM Comment Period End | 12/18/19
Final Action | 08/02/21 | 86 FR 41668
Final Action Effective | 09/01/21

Regulatory Flexibility Analysis Required: Yes.

Agency Contact: Kim Damon-Randall, Director, Office of Protected Resources, Department of Commerce, National Oceanic and Atmospheric Administration, 1315 East-West Highway, Silver Spring, MD 20910, Phone: 301 427-8400, Email: kimberly.damon-randall@noaa.gov.

RIN: 0648-BH95

246. Wisconsin-Lake Michigan National Marine Sanctuary Designation

Legal Authority: 16 U.S.C. 1431 et seq.

Abstract: On December 2, 2014, pursuant to section 304 of the National Marine Sanctuaries Act and the Sanctuary Nomination Process (79 FR 33851), a coalition of community groups submitted a nomination asking NOAA to designate an area of Wisconsin's Lake Michigan waters as a national marine sanctuary. The area is a region that includes 875 square miles of Lake Michigan waters and bottomlands adjacent to Manitowoc, Sheboygan, and Ozaukee counties and the cities of Port Washington, Sheboygan, Manitowoc, and Two Rivers. It includes 80 miles of shoreline and extends 9 to 14 miles from the shoreline. The area contains an extraordinary collection of submerged maritime heritage resources (shipwrecks) as demonstrated by the listing of 15 shipwrecks on the National Register of Historic Places. The area includes 39 known shipwrecks, 123 reported vessel losses, numerous other historic maritime-related features, and is adjacent to communities that have embraced their centuries-long relationship with Lake Michigan. NOAA completed its review of the nomination in accordance with the Sanctuary Nomination Process and on February 5, 2015, added the area to the inventory of nominations that are eligible for designation. On October 7, 2015, NOAA issued a notice of intent to begin the designation process and asked for public comment on making this area a national marine sanctuary. Designation under the National Marine Sanctuaries Act would allow NOAA to supplement and complement work by the State of Wisconsin and other Federal agencies to protect this collection of nationally significant shipwrecks.

Timetable:

Action | Date | FR Cite
NPRM | 01/09/17 | 82 FR 2269
NPRM Comment Period End | 03/31/17
Final Action | 06/23/21 | 86 FR 32737
Final Action Effective | 08/16/21
Notification of Effective Date of Final Rule | 08/17/21 | 86 FR 45860

Regulatory Flexibility Analysis Required: Yes.

Agency Contact: Russ Green, Department of Commerce, National Oceanic and Atmospheric Administration, 1401 Constitution Avenue, Washington, DC 20230, Phone: 989 766-3359, Email: russ.green@noaa.gov.

Jessica Kondel, Policy and Planning Division Chief, Department of Commerce, National Oceanic and Atmospheric Administration, 1305 East-West Highway, Building SSMC4, Silver Spring, MD 20910, Phone: 240 533-0647.

RIN: 0648-BG01

DEPARTMENT OF COMMERCE (DOC)

Patent and Trademark Office (PTO)

Final Rule Stage

247. Changes To Implement Provisions of the Trademark Modernization Act of 2020

Regulatory Plan: This entry is Seq. No. 15 in part II of this issue of the Federal Register.

RIN: 0651-AD55

[FR Doc. 2021-28219 Filed 1-28-22; 8:45 am]

BILLING CODE 3410-12-P